DEPARTMENT OF HEALTH AND HUMAN SERVICES

Food and Drug Administration

[Docket No. FDA-2010-N-0161]

Agency Information Collection Activities; Submission for Office of Management and Budget Review; Comment Request; Export of Food and Drug Administration-Regulated Products: Export Certificates

Correction

In notice document 2020-28064 appearing on pages 83091-83092 in the issue of Monday, December 21, 2020, make the following correction:

On page 83091, in the second column, in the DATES section, change “January 20, 2021” to read “January 21, 2021.”

[FR Doc. C1-2020-28064 Filed 1-12-21; 8:45 am]

BILLING CODE 1301-00-D